DEPARTMENT OF EDUCATION

Notice of Submission for OMB Review; Institute of Education Sciences; FAFSA Completion Project Evaluation

SUMMARY: The Institute of Education Sciences (IES) at the U.S. Department of Education (ED) is conducting a rigorous study of the Free Application for Federal Student Aid (FAFSA) Completion Project. The project will provide 80 Local Educational Agencies or school districts with access to data on whether specific students have completed the FAFSA.

DATES: Interested persons are invited to submit comments on or before October 19, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04887. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: FAFSA Completion Project Evaluation.

OMB Control Number: Pending.

Type of Review: New.

Total Estimated Number of Annual Responses: 200.

Total Estimated Number of Annual Burden Hours: 1,120.

Abstract: This information is intended to help schools implement targeted outreach to seniors and their families who have not yet submitted a FAFSA, or who submitted a FAFSA that may be incomplete. The evaluation of the project is being conducted by IES staff in the National Center for Education Evaluation. The study will use a delayed-treatment control group design, and will examine whether there is an impact from access to the data on students' application for and receipt of federal student aid and a proxy for college enrollment. The data collection to address these research questions will create minimal burden on respondents and have limited cost to the government. IES is requesting permission to obtain lists of high schools and student rosters from the participating districts or their high schools. Other data for the study—completion of a FAFSA, receipt of Pell Grant, and a proxy for college enrollment (whether an institution of higher education has drawn down the Pell Grant funds for individual students)—will come from existing ED administrative data that will not generate any new burden because they are already collected for other purposes. The analyses will be conducted internally by IES staff on data that is stripped of personally identifiable information. The results will be summarized in an internal memo.

Dated: September 14, 2012.
Darrin A. King,
Director, Information Collection Clearance Division, Privacy, Information and Records Management Services, Office of Management.

[FR Doc. 2012-23095 Filed 9-18-12; 8:45 am]

BILLING CODE 4000-01-P